DEPARTMENT OF HOMELAND SECURITY

Federal Emergency Management Agency

44 CFR Part 67

[Docket No. FEMA-B-7468]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) # Depth in feet above ground: Effective | *Elevation in feet (NGVD) +Elevation in feet (NAVD) # Depth in feet above ground: Modified | Communities affected
Walker County Alabama, and Incorporated Areas
Lost Creek | Approximately 400 feet upstream of BSNF Railway | *404 | +406 | Walker County (Unincorporated Areas)
| Approximately 2,500 feet downstream of South Pine Street | *409 | +411
# Depth in feet above ground.
*National Geodetic Vertical Datum.
+National American Vertical Datum.
ADDRESSES
Unincorporated Areas of Walker County
Maps are available for inspection at Walker County Engineering Department, 1801 Third Avenue, Jasper, AL 35501.
Send comments to Mrs. Rita Nichols, Office of Water Resources, P.O. Box 5690, Montgomery, AL 36103-5690.
Boone County, Kentucky and Incorporated Areas
Ohio River | At confluence of Dry Creek | *495 | +495 | Boone County (Unincorporated Areas).
| At confluence of Big Bone Creek | *479 | +478
# Depth in feet above ground.
*National Geodetic Vertical Datum.
+National American Vertical Datum.
ADDRESSES
Unincorporated Areas of Boone County
Maps are available for inspection at the Boone County Planning Commission, Boone County Administration Building, 3rd Floor, 2950 Washington Street, Burlington, KY 41005.
Send comments to the Honorable Anthony W. Frohlich, Mayor, Boone County, 6025 Rogers Lane, Suite 444, Burlington, KY 41005.

(Catalog of Federal Domestic Assistance No. 83.100, “Flood Insurance.”)

Dated: October 4, 2006.
David I. Maurstad,
Director, Mitigation Division, Federal Emergency Management Agency, Department of Homeland Security.

[FR Doc. E6-17273 Filed 10-16-06; 8:45 am]

BILLING CODE 9110-12-P